OVERSEAS PRIVATE INVESTMENT CORPORATION

Sunshine Act Cancellation Notice—OPIC December 4, 2013 Public Hearing

OPIC's Sunshine Act notice of its Public Hearing in Conjunction with each Board meeting was published in the Federal Register (Volume 78, Number 219, Page 68103) on November 13, 2013. No requests were received to provide testimony or submit written statements for the record; therefore, OPIC's public hearing scheduled for 2 p.m., December 4, 2013 in conjunction with OPIC's December 12, 2013 Board of Directors meeting has been cancelled.

Contact Person for Information: Information on the hearing cancellation may be obtained from Connie M. Downs at (202) 336-8438, or via email at Connie.Downs@opic.gov.

Dated: November 27, 2013.
Connie M. Downs,
OPIC Corporate Secretary.

[FR Doc. 2013-28901 Filed 11-27-13; 4:15 pm]

BILLING CODE 3210-01-P